DEPARTMENT OF ENERGY

Federal Energy Regulatory Commission

[Docket No. RP03-259-000]

Questar Pipeline Company; Notice of Tariff Filing

February 24, 2003.

Take notice that on February 20, 2003, Questar Pipeline Company (Questar) tendered for filing as part of its FERC Gas Tariff, First Revised Volume No. 1, the following tariff, to be effective March 22, 2003.

Second Revised Sheet No. 4

Twenty-Eighth Revised Sheet No. 5

Fifteenth Revised Sheet No. 5A

Fifteenth Revised Sheet No. 6

Tenth Revised Sheet No. 6A

Third Revised Sheet No. 11

Fifth Revised Sheet No. 56A

Sixth Revised Sheet No. 58

Tenth Revised Sheet No. 59

Seventh Revised Sheet No. 60B

Sixth Revised Sheet No. 62

Sixth Revised Sheet No. 63

First Revised Sheet No. 67A

Eighth Revised Sheet No. 68

Second Revised Sheet No. 69

Original Sheet No. 69A

Ninth Revised Sheet No. 75

Second Revised Sheet No. 99I

Seventh Revised Sheet No. 163

First Revised Sheet No. 179H

First Revised Sheet No. 185A

First Revised Sheet No. 185B

Third Revised Sheet No. 187

Fourth Revised Sheet No. 193

Second Revised Sheet No. 194

Third Revised Sheet No. 196

Third Revised Sheet No. 197

Questar states that its filing proposes a “cleanup” of specific aspects of its tariff language, including the removal of tariff language affected by the Commission's announcement of the removal of the waiver of the rate ceiling on short-term capacity-release transactions that expired September 30, 2002, pursuant to 18 CFR 284.8(i).

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 4, 2003.

Magalie R. Salas,
Secretary.

[FR Doc. 03-4849 Filed 2-28-03; 8:45 am]

BILLING CODE 6717-01-P